DEPARTMENT OF VETERANS AFFAIRS

Advisory Committee on CARES Business Plan Studies; Notice of Meeting

The Department of Veterans Affairs (VA) gives notice under the Pub. L. 92-463 (Federal Advisory Committee Act) that the Advisory Committee on CARES Business Plan Studies will meet as indicated below. The meetings are open to the public.

Location | Date | Time
Waco Convention Center, McLennan Room, 100 Washington Street, Waco, TX 76702 | Tuesday, May 3, 2005 | 9 a.m. until 4:30 p.m.
Marriott New York at the Brooklyn Bridge, 333 Adams Street, Brooklyn, NY 11201 | Tuesday, May 3, 2005 | 3 p.m. until 9:30 p.m.
Perry Point VA Medical Center, Building 314, Theater, Perry Point, MD 21902 | Tuesday, May 3, 2005 | 9 a.m. until 1 p.m.
Jonathan M. Wainwright Memorial, VA Medical Center, Theater, Building 78, Room 103, 77 Wainwright Drive, Walla Walla, WA 99362 | Wednesday, May 4, 2005 | 8 a.m. until 5 p.m.
RSA Plaza Terrace, 770 Washington Avenue, Montgomery, AL 36130 | Wednesday, May 4, 2005 | 1 p.m. until 5 p.m.
VA Primary and Extended Care Center, Pratt Auditorium, 179 Street and Linden Boulevard, Saint Albans, NY 11425 | Thursday, May 5, 2005 | 3 p.m. until 9:30 p.m.
VA Greater Los Angeles Healthcare System, Wadsworth Theatre, Bldg 226, 11301 Wilshire Blvd., Los Angeles, CA 90073 | Friday, May 6, 2005 | 8 a.m. until 4:30 p.m.
VA Southern Oregon Rehabilitation Center and Clinics, Theatre, Building 220, Room 109, 8495 Crater Lake Highway, White City, OR 97503 | Tuesday, May 10, 2005 | 1 p.m. until 5 p.m.
Montrose Campus of VA Hudson Valley Health Care System, Building 25, 2094 Albany Post Road, Montrose, NY 10548 | Wednesday, May 11, 2005 | 9 a.m. until 3 p.m.
VA Gulf Coast Veterans Health Care System, Building 17, Recreation Hall, 400 Veterans Avenue, Biloxi, MS 39531 | Thursday, May 12, 2005 | 8 a.m. until 5 p.m.
Veterans Affairs Medical Center, 2250 Leestown Road, Auditorium, Building 4, Room 100, Lexington, KY 40511 | Thursday, May 12, 2005 | 10 a.m. until 2:30 p.m.
VA Palo Alto Health Care System, 4951 Arroyo Road, Nursing Home Care Unit, Building 90, Livermore, CA 94550 | Friday, May 13, 2005 | 9 a.m. until 4:30 p.m.
Edith Nourse Rogers Medical Center, Theatre, Building 78, 200 Springs Road, Bedford, MA 01730 | Friday, May 13, 2005 | 9 a.m. until 4:30 p.m.
Municipal Auditorium, 310 East 3rd Street, Big Spring, TX 79720 | Friday, May 13, 2005 | Two identical meetings: 8 a.m. until 12 noon and 5 p.m. until 9 p.m.
VA Medical Center, 1500 North Westwood Boulevard, Building 1, Room 2099, Poplar Bluff, MO 63901 | Tuesday, June 7, 2005 | 8 a.m. until 2 p.m.

The purpose of the Committee is to provide advice to the Secretary of Veterans Affairs on proposed business plans at those VA facility sites identified in May 2004 as requiring further study by the Capital Asset Realignment for Enhanced Services (CARES) Decision document.

The agenda at each meeting will include presentations on objectives of the CARES project and the project's timeframes. Additional presentations will focus on the VA-selected contractor's methodology and tools to develop business plan options, as well as the methodology for gathering and evaluating stakeholder input. The agenda will also accommodate public commentary on site-specific issues.

Interested persons may attend and present oral or written statements to the Committee. For additional information regarding the meetings, please contact Mr. Jay Halpern, Designated Federal Officer, (00CARES), 810 Vermont Avenue, NW., Washington, DC 20024 by phone at (202) 273-5994, or by e-mail at jay.halpern@hq.med.va.gov.

Dated: April 14, 2005.
By Direction of the Secretary,
E. Philip Riggin,
Committee Management Officer.

[FR Doc. 05-8183 Filed 4-22-05; 8:45 am]

BILLING CODE 8320-01-M